ENVIRONMENTAL PROTECTION AGENCY

40 CFR Part 300

[FRL-7020-1]

National Oil and Hazardous Substance Pollution Contingency Plan; National Priorities List

AGENCY: Environmental Protection Agency.

ACTION: Direct final notice of deletion of the Dixie Caverns County Landfill Superfund Site from the National Priorities List.

SUMMARY: The Environmental Protection Agency (EPA) Region III is publishing a direct final notice of deletion of the Dixie Caverns County Landfill Superfund Site (Site), located in Roanoke County, near Salem, Virginia, from the National Priorities List (NPL).

The NPL, promulgated pursuant to Section 105 of the Comprehensive Environmental Response, Compensation, and Liability Act (CERCLA) of 1980, as amended, is appendix B of 40 CFR part 300, which is the National Oil and Hazardous Substances Pollution Contingency Plan (NCP). This direct final deletion is being published by EPA with the concurrence of the Commonwealth of Virginia, through the Virginia Department of Environmental Quality, because EPA has determined that all appropriate response actions under CERCLA have been completed and, therefore, further remedial action pursuant to CERCLA is not appropriate.

DATES: This direct final deletion will be effective September 28, 2001 unless EPA receives adverse comments by August 29, 2001. If adverse comments are received, EPA will publish a timely withdrawal of the direct final deletion in the Federal Register informing the public that the deletion will not take effect.

ADDRESSES: Comments may be mailed to: Matthew T. Mellon, Remedial Project Manager, U.S. EPA Region III (3HS23), 1650 Arch Street, Philadelphia, PA 19103-2029, (215) 814-3168.

Information Repositories: Comprehensive information about the Site is available for viewing and copying at the Site information repositories located at: U.S. EPA Region III, Regional Center for Environmental Information (RCEI), 1650 Arch Street (2nd Floor), Philadelphia, PA 19103-2029, (215) 814-5254, Monday through Friday, 8 a.m. to 5 p.m.; and the Glenvar Branch of the Roanoke County Public Library, 3917 Daugherty Road, Salem, VA 24153, (540) 387-6163, Monday through Thursday, 9 a.m. to 9 p.m. and Friday through Saturday, 9 a.m. to 5 p.m.

FOR FURTHER INFORMATION CONTACT: Matthew T. Mellon, Remedial Project Manager, U.S. EPA Region III (3HS23), 1650 Arch Street, Philadelphia, PA 19103-2029, (215) 814-3168 or 1-800-553-2509.

SUPPLEMENTARY INFORMATION:

Table of Contents

I. Introduction

II. NPL Deletion Criteria

III. Deletion Procedures

IV. Basis for Site Deletion

V. Deletion Action

I. Introduction

EPA Region III is publishing this direct final notice of deletion of the Dixie Caverns County Landfill Superfund Site from the NPL.

The EPA identifies sites that appear to present a significant risk to public health or the environment and maintains the NPL as the list of those sites. As described in the Section 300.425(e)(3) of the NCP, sites deleted from the NPL remain eligible for remedial actions if conditions at a deleted site warrant such action.

Because EPA considers this action to be noncontroversial and routine, EPA is taking it without prior publication of a notice of intent to delete. This action will be effective September 28, 2001 unless EPA receives adverse comments by August 29, 2001 on this document. If adverse comments are received within the 30-day public comment period on this document, EPA will publish a timely withdrawal of this direct final deletion before the effective date of the deletion and the deletion will not take effect. EPA will, as appropriate, prepare a response to comments and continue with the deletion process on the basis of the notice of intent to delete and the comments already received. There will be no additional opportunity to comment.

Section II of this document explains the criteria for deleting sites from the NPL. Section III discusses procedures that EPA is using for this action. Section IV discusses the Dixie Caverns County Landfill Superfund Site and demonstrates how it meets the deletion criteria. Section V discusses EPA's action to delete the Site from the NPL unless adverse comments are received during the public comment period.

II. NPL Deletion Criteria

Section 300.425(e) of the NCP provides that releases may be deleted from the NPL where no further response is appropriate. In making a determination to delete a Site from the NPL, EPA shall consider, in consultation with the State, whether any of the following criteria have been met:

i. responsible parties or other persons have implemented all appropriate response actions required;

ii. all appropriate Fund-financed (Hazardous Substance Superfund Response Trust Fund) response under CERCLA has been implemented, and no further response action by responsible parties is appropriate; or

iii. the remedial investigation has shown that the release poses no significant threat to public health or the environment and, therefore, the taking of remedial measures is not appropriate.

Even if a site is deleted from the NPL, where hazardous substances, pollutants, or contaminants remain at the deleted site above levels that allow for unlimited use and unrestricted access, CERCLA Section 121(c), 42 U.S.C. 9621(c) requires that a subsequent review of the site be conducted at least every five years after the initiation of the remedial action at the deleted site to ensure that the action remains protective of public health and the environment. If new information becomes available which indicates a need for further action, EPA may initiate remedial actions. Whenever there is a significant release from a site deleted from the NPL, the deleted site may be restored to the NPL without application of the hazard ranking system.

III. Deletion Procedures

The following procedures apply to deletion of the Site:

(1) The EPA consulted with the Commonwealth of Virginia on the deletion of the Site from the NPL prior to developing this direct final notice of deletion.

(2) The Commonwealth of Virginia concurred with deletion of the Site from the NPL.

(3) Concurrently with the publication of this direct final notice of deletion, a notice of the availability of the parallel notice of intent to delete published today in the “Proposed Rules” section of the Federal Register is being published in a major local newspaper of general circulation at or near the Site and is being distributed to appropriate federal, state, and local government officials and other interested parties; the newspaper notice announces the 30-day public comment period concerning the notice of intent to delete the Site from the NPL.

(4) The EPA placed copies of documents supporting the deletion in the Site information repositories identified above.

(5) If adverse comments are received within the 30-day public comment period on this document, EPA will publish a timely notice of withdrawal of this direct final notice of deletion before its effective date and will prepare a response to comments and continue with the deletion process on the basis of the notice of intent to delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL:

Executive Summary of the Basis for Site Deletion

The Dixie Caverns County Landfill was operated from 1965 to 1976. The Site was the focus of two Removal Actions and two Records of Decision (RODs). Through these actions, a fly ash pile was removed for High Temperature Metals Recovery (HTMR); sediment from two streams that had been contaminated by this ash were excavated, stabilized, and landfilled on Site; numerous drums were removed from the Site; and sludge and associated soils and sediment were excavated and disposed of off-site.

The only waste remaining at the Site is contained in a landfill area (specifically constructed for it) as “concrete-like” stabilized blocks and in a small (5 cubic yards) pocket of fly ash-contaminated sediments, securely entombed deep in an inaccessible stream bank. To date, there has been no leachate collected from the NPL landfill, although the leachate collection system is indeed functioning properly. Since there has been no leachate produced, no analyses have been necessary. The condition of the landfill and cap are good, and there are no significant erosional problems at the Site.

Consequently, the remedy implemented at the Site for the stabilization and containment of sediments contaminated with arc-furnace fly ash (listed as K061 waste under the Resource Conservation and Recovery Act (RCRA)) has been, and remains, protective. The streams flowing through the Site have recovered well from the impact of the removal actions, and appear to be ecologically quite healthy.

Summary of Contaminated Areas Addressed at Dixie Caverns County Landfill Superfund Site:

• Drum Disposal Area—August 1988 through May 1989: Drums stabilized and overpacked for transport off-site to a hazardous waste disposal facility.

• Sludge Pit—August 1988 through May 1989: Removal, stabilization and off-site disposal of approximately 500 cubic yards of sludge and contaminated soil.

• Fly Ash Pile—August 1994 through January 1996: Excavation and transport of approximately 9,000 cubic yards of fly-ash material to off-site High Temperature Metals Recovery (HTMR) facility.

• Stream Sediments and Soil—1993 through 1997: Excavation, stabilization and containment of contaminated soils and stream sediments related to the fly ash pile; and placing the “concrete-like” blocks into an on-site landfill.

Site History and Characteristics

The Dixie Caverns Landfill Site (“Site”) is located in Roanoke County, near Salem, Virginia, along State Route 778, approximately one mile west of Exit 132 (“Dixie Caverns”) on Interstate 81 (heading south from Roanoke). The landfill is currently owned by the County of Roanoke, and was operated by the County from 1965 until 1976. During its operation, the landfill received unknown quantities of industrial refuse, scrap metal, fly ash, sludge, and other industrial wastes. When the landfill was closed in July 1976, it contained an estimated 440,000 cubic yards of waste covering approximately 39 acres.

The Site is located in a rural area with the nearest residence located approximately one-half mile southeast along Twine Hollow road. A total of 235 residents live within a one-mile radius of the Site, and an estimated 2,110 residents live within three miles. Within one mile of the Site, private wells are used as the source of potable water.

Municipal and industrial wastes were first disposed of at the Site in 1965. In 1972, the County of Roanoke was notified by the Commonwealth of Virginia that its operation had to be phased out by July 1, 1973, which was the deadline for jurisdictions to obtain a solid waste disposal permit. After several unsuccessful attempts to obtain a permit, the landfill ceased operation in July 1976.

In June 1983, EPA completed a Preliminary Assessment of the Site and identified several disposal areas including a large fly ash pile of undetermined constituents. As a result of these initial investigations, the County of Roanoke signed a Consent Order with EPA in September 1987 to conduct a Removal Action at three disposal areas—a discarded drum area, a sludge pit, and the fly ash pile. The County completed removal activities in the drum area and sludge pit. EPA approved the County plan to treat the fly ash using a proprietary stabilization process. The treated waste was to be placed on Site. Prior to initiation of full-scale treatment, the Commonwealth of Virginia identified inconsistencies between the county plan and state regulations. EPA consequently recommended that the County suspend the Removal Action for stabilization of the fly ash pile.

For the Drum Disposal Area, removal activities consisted of the removal of construction debris, tires, and approximately 300 drums, along with identification (if possible) of the drum's origin. Prior to removal, each drum was visually inspected, field-tested, pumped, overpacked, and/or moved directly to a drum staging area. Drums were inspected for identifying labels or other information pertaining to their possible contents, drum integrity, and volume of material. Drums containing liquids were pumped and/or overpacked prior to removal to the designated staging/sampling area. Compatible liquids were consolidated into a bulk storage/transportation tanker, and incompatible liquids and non-pumpable sludges were pumped, overpacked or stabilized in drums for off-site disposal in an approved hazardous waste disposal facility.

Drums containing solid material were overpacked, and/or removed and placed in the designated sampling/staging area. All solids requiring disposal were either blended with other solids for bulk disposal or disposed of as drummed waste in an approved hazardous waste facility. Sampling from the drum disposal area indicated high levels of volatile and semi-volatile organic compounds.

Removal activities for the sludge pit consisted of the removal of approximately 500 cubic yards of sludge and contaminated soil, followed by disposal off-site in an approved hazardous waste disposal facility, post excavation sampling to ensure all hazardous materials had been removed, backfill and grading with clean fill, and revegetating the area for erosion control. This area contained high levels of various organic compounds.

The Dixie Caverns Landfill Site was proposed for listing on the Superfund National Priorities List (NPL) on January 22, 1987. The Site was formally listed on the NPL on October 4, 1989.

On January 2, 1988 and April 26, 1989, EPA sent special notice letters pursuant to Section 122(e) of the Comprehensive Environmental Response, Compensation, and Liability Act (CERCLA), 42 U.S.C. Section 9622(e), to identified Potentially Responsible Parties (PRPs) and to offer them the opportunity to perform a Remedial Investigation and Feasibility Study (RI/FS) of the Site. When the PRPs declined to perform the work in July 1989, EPA initiated an RI/FS to determine the full nature and extent of contamination at the Site.

Although the Remedial Investigation had not yet been completed, EPA had sufficient information in September 1991, to determine the appropriate remedy for the fly ash, identified under the Resource Conservation and Recovery Act (RCRA) as K061. This waste is a listed hazardous waste under the regulations promulgated at 40 CFR 261.32 pursuant to RCRA, 42 U.S.C. Sections 6901 et seq. The K061 waste pile contained several metals, including lead, cadmium and zinc, at levels that presented an imminent and substantial threat to human health and the environment. On September 30, 1991, EPA issued a Record of Decision (ROD) to address the approximately 9,000 cubic yards of K061 waste (fly ash) present at the Site. As described in the 1991 ROD, the selected remedy for the fly ash pile was removal of the fly ash from the Site and treatment of the fly ash at a High Temperature Metals Recovery (HTMR) facility. The fly ash pile was addressed separately from the rest of the Site as Operable Unit 1 (OU1). The PRPs entered into a consent decree with EPA in June of 1993 agreeing to implement the remedy selected in the OU1 ROD.

The Remedial Action (construction) was formally initiated on August 15, 1994. The contractor conducted remedial activities as planned, and no additional areas of contamination were identified. EPA Concurrence Notices dated November 15, 1995 and January 30, 1996 were issued to the PRP pursuant to the OU1 Consent Decree to document that the “Remedial Action” and the “Work” had been completed and the Performance Standards of the OU1 ROD had been achieved.

At the time that the 1991 ROD was issued, EPA designated all other areas of the Site (except the K061 waste pile) as Operable Unit 2 (OU2). These areas were addressed in a Remedial Investigation Report dated January 1992. As part of the Remedial Investigation for OU2, surface water and sediment samples were obtained from the small streams adjacent to the northern portion of the Site. The analytical results of these samples were evaluated and three contaminants of potential concern (lead, cadmium and zinc) were identified.

Because of the high levels of inorganic contaminants found in the stream sediments, the EPA evaluated the need for an expedited response. EPA subsequently determined that an imminent threat to public health, welfare and/or the environment existed due to the actual release of hazardous substances from the Site. As a result, on August 28, 1992, EPA and the PRPs entered into an Administrative Order by Consent for Removal Action (Removal Order) pursuant to Sections 106(a) and 122(a) of CERCLA, 42 U.S.C. Sections 9606(a) and 9622(a). The Removal Order required that the PRPs:

• Identify the extent of contamination exceeding ecological risk-based levels in two streams at the Site and in soils in the vicinity of and directly beneath the K061 waste pile,

• Eliminate the effect of contamination on aquatic and vegetative species located in and around the two streams and,

• Remove, treat, and/or dispose of contaminated soils in the vicinity of and directly beneath the K061 waste pile.

The Removal Order required that the PRPs develop and implement a Response Action Plan (RAP) to meet the requirements of the Removal Order. The RAP included sampling the streams to determine the extent of contamination, and then excavating the sediment contaminated by the fly ash and the contaminated soils underlying the fly ash pile. The contaminated sediment and soil would then be stabilized using a proprietary process developed by Roanoke Electric Steel and approved by EPA and Virginia regulatory agencies. The process would involve stabilizing the waste to form concrete-like blocks, and then landfilling the blocks on-site in a properly designed landfill. After cleanup, sampling and analysis would confirm the success of the plan.

Implementation of the RAP took place over a five-year period from 1993 to 1997. The work took place in five stages. The first step included sampling and analysis of stream sediment. Erosion and sediment control measures were designed and implemented, access to adjoining properties was obtained, and plans were made to manage contaminated water.

The second and third steps involved excavation and stabilization of contaminated soil and sediment.

The fourth step involved landfill construction and final disposal. A geological and hydrogeological investigation confirmed the suitability of the Site for a landfill. The RCRA subtitle “C” landfill was designed in compliance with all applicable regulations. The landfill was filled, capped, and certified closed.

The fifth step was site cleanup. Access, roadway, and production areas were cleaned, equipment was decontaminated, and mixing equipment was disposed of.

A report certifying the successful cleanup of soils in the vicinity of and directly beneath the K061 waste pile was submitted by the PRPs on September 26, 1995. Work on sediment removal and stabilization continued through the early summer of 1997. A final inspection was conducted by EPA on July 31, 1997. A Report entitled “Implementation of a Response Action Plan to Remove, Stabilize, and Dispose of Soils and Sediment at Dixie Caverns Landfill” dated September 4, 1997 was submitted by the PRPs documenting that all requirements of the Removal Order had been met. EPA accepted this report on September 18, 1997.

EPA selected “no further action” as the remedy for OU2. The OU2 ROD covered those areas of the Site which were not addressed by OU1 (the K061 waste pile) or the Removal Order (sediments in the adjacent stream and soils in the vicinity of and beneath the K061 waste pile). EPA's rationale for the “no further action” decision was that previous remedial and removal actions addressed all risks posed by the Site and no further action was necessary. The OU2 ROD was signed on September 28, 1992.

There are no long-term requirements associated with the work of the OU1 ROD and the OU1 Consent Decree. A Post-Closure Care Plan for the on-Site landfill containing the stabilized soils and sediments has been developed to provide methods and schedules for operation and maintenance of the landfill components, including vegetative cover, erosion and sediment control, and the landfill leachate collection and disposal system.

A small pocket of sediment in the south bank of the large sediment pond was unable to be excavated due to its inaccessible location. The pocket consists of about 5 cubic yards of contaminated sediment. The pocket is buried under 7 feet of clay and is protected from erosion by the stream by a large culvert directing flow around it. Abandonment of this sediment pocket was approved by EPA after demonstrations showed that long-term entombment was practical. A yearly walk-by of this location for 5 years after closure was required to ensure that erosion did not begin to threaten the pocket. If future inspections indicate that the integrity of the pocket is threatened, repairs shall be made to ensure the entombment. The adjacent sediment control structures, including the piping and drop inlet are inspected regularly to verify that they are free of debris.

The cap enclosing the landfill has been very effective, and so impermeable that there has been no leachate collected for analysis or disposal to date. Consequently, the objective of on-site containment has been completely obtained, and the Site is in compliance with the goals of the Response Action Plan (for the second Removal).

The only remaining activity to be performed at the Dixie Caverns County Landfill Superfund Site is ongoing Operations and Maintenance (O&M) of the landfill containing the stabilized sediment and soils. Also, since waste remains on the Site such that there is not unlimited use and unrestricted access, EPA will continue to perform five year reviews at the Site.

On October 28, 1999, EPA inspected the Site. Upon arriving at the Site, the fence and gates were found to be intact, and adequately secured. Just inside the entrance to the Site, the lower leachate collection and pre-treatment systems (which operate for the entirety of the landfill, not just the NPL Site) appeared to be in good working order. The surface of the landfill containing the stabilized sediment and soil was in good condition, although vegetation exhibited occasional sparse patches. The landfill cap, however, had only minor evidence of erosion, which the County stated would be addressed in routine maintenance, along with some re-seeding.

EPA conducted a second site visit on June 20, 2001. The fence was again found to be in good condition, and the gate appeared to be in working order. The leachate collection system is still working properly, and the small amount of leachate collected from the municipal landfill no longer requires pre-treatment (though it is periodically sampled and analyzed to confirm that status).

There continues to be no leachate generated from the NPL portion of the landfill, and thus nothing to collect for analysis. Vegetation on the landfill was lush. Throughout the entirety of the Site (both the NPL and the municipal landfill), new roadbeds and new riprap drainage systems have been installed (completed in May 2001). These improvements were made when the County of Roanoke constructed a new training facility with classrooms and an outdoor shooting range uphill from the upper leachate collection tanks. New fencing and security cameras were also installed.

There is almost no visible evidence of the Removal Action taken in the streams at the Site. Vegetation has taken hold, and the stream appears quite healthy. Fish were observed feeding in a small pond where the fly ash pile was formerly located. The abandoned pocket of fly ash-contaminated sediment remains securely entombed. No erosional problems were observed in any part of the Site.

Community Involvement

Public participation activities have been satisfied as required in CERCLA Section 113(k), 42 U.S.C. 9613(k), and CERCLA Section 117, 42 U.S.C. 9617. Documents in the deletion docket which EPA relied on for recommendation of the deletion from the NPL are available to the public in the information repositories.

V. Deletion Action

The EPA, with concurrence of the Commonwealth of Virginia, has determined that all appropriate responses under CERCLA have been completed, and that no further response actions, under CERCLA, other than O&M and five-year reviews, are necessary. Therefore, EPA is deleting the Site from the NPL.

Because EPA considers this action to be noncontroversial and routine, EPA is taking it without prior publication. This action will be effective September 28, 2001 unless EPA receives adverse comments by August 29, 2001. If adverse comments are received within the 30-day public comment period, EPA will publish a timely withdrawal of this direct final notice of deletion before the effective date of the deletion and it will not take effect and, EPA will prepare a response to comments and continue with the deletion process on the basis of the notice of intent to delete and the comments already received. There will be no additional opportunity to comment.

List of Subjects in 40 CFR Part 300

Environmental protection, Air pollution control, Chemicals, Hazardous waste, Hazardous substances, Intergovernmental relations, Penalties, Reporting and recordkeeping requirements, Water pollution control, Water supply.

Dated: July 23, 2001.
Thomas C. Voltaggio,
Acting Regional Administrator, U.S. EPA Region III.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p.351; E.O. 12580, 52 FR 2923, 3 CFR, 1987 Comp., p.193.

Appendix B—[Amended]

2. Table 1 of appendix B to part 300 is amended under Virginia (“VA”) by removing the site name “Dixie Caverns County Landfill” and the city “Salem.”

[FR Doc. 01-18818 Filed 7-27-01; 8:45 am]

BILLING CODE 6560-50-P